DEPARTMENT OF HEALTH AND HUMAN SERVICES

National Institutes of Health

Proposed Collection; Comment Request; Patterns and Consequences of Alcohol Use in Non-Reservation Indians

SUMMARY: In compliance with the requirement of Section 3506(c)(2)(A) of the Paperwork Reduction Act of 1995, regarding the opportunity for public comment on proposed data collection projects, the National Institute on Alcohol Abuse and Alcoholism (NIAAA), National Institutes of Health (NIH) will publish periodic summaries of proposed projects submitted to the Office of Management and Budget (OMB) for review and approval.

Proposed Collection: Title: Patterns and Consequences of Alcohol Use in Non-Reservation Indians. Type of Information Collection Request: New. Form Number: No form number has been assigned because this is a new survey. Need and Use of Information Collection: This survey will be done in preparation for a broader study to follow. The broader study will examine the enhanced vulnerability of some American Indian people to alcohol abuse, alcoholism and adverse consequences of drinking. Most of the existing research has been restricted to reservation-residing tribes. This study will examine non-reservation individuals and thus be better representative of the majority of American Indians. Second, the samples in existing studies are predominantly male. This fact may reflect the disproportionate occurrence of substance abuse disorders in American Indian males. However, it may also reflect a sampling bias. Third, sources of the reported heterogeneity among tribes in drinking practices and outcomes are seldom examined systematically. Therefore, there is a need for the systematic study of male and female non-reservation residing American Indians and their patterns/consequences of alcohol use. The proposed telephone survey is a feasibility study to ascertain: (a) The effectiveness of this research modality in reaching non-reservation American Indians in Oklahoma (as many as 25% of non-reservation American Indians do not have access to a private phone) (b) the appropriateness of the length of the instrument and (c) the clarity and specificity of the questions. Respondents will be asked twenty-eight questions about community perceptions of substance use, service availability, familial substance use, general health concerns, and current problems related to these issues. Respondents will be American Indian individuals over the age of 21 who meet initial criteria and who are reached by random telephone sampling within Oklahoma. Information gained and strategies tested in the telephone survey will also inform methodologies and survey protocols for subsequent in person and mail surveys of American Indians that will investigate American Indian health concerns. The NIAAA is the federal agency with primary responsibility for supporting and conducting biomedical and behavioral research on the causes, consequences, treatment, and prevention of alcoholism and alcohol-related problems. One of the Institute's goals is to examine and address alcohol consumption, its biomedical sequelae and the prevention and treatment of alcohol dependence and alcohol related pathology in specific American Indian populations. Frequency of Response: Once per respondent. Affected Public: Individuals. Type of Respondents: American Indian adults over 21 years of age. The reporting burden is as follows: Estimated Number of Respondents: 50. Estimated Number of Responses per Respondent: One response per respondent. Average Burden Hours per Response: One-third hour per individual. Estimated Total Annual Burden Hours Requested: 16.7 hours. There are no costs to respondents. There are no capital costs, operating costs or maintenance costs to report.

Request for Comments: Written comments and suggestions from the public and affected agencies are invited on the following points: (1) Whether the data collection is necessary for the proper performance of the function of the agency, including whether the information will have practical utility; (2) the accuracy of the agency's estimate of the burden of the proposed collection of information, including the validity of the methodology and assumptions; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Carmen M. Richardson, NIH/NIAAA/OCR, 6000 Executive Boulevard, Suite 302, MSC 7003, Bethesda, MD 20892-7003, or e-mail your request to: crichard@mail.nih.gov. Ms. Richardson can be contacted by telephone at 301-443-1285.

Comments Due Date: Comments regarding this information collection are best assured of having their full effect if received within 60 days of the date of this publication.

Dated: October 29, 2002.
Stephen Long,
Executive Officer, NIAAA.

[FR Doc. 02-28110 Filed 11-5-02; 8:45 am]

BILLING CODE 4140-01-M